DEPARTMENT OF LABOR

Employment and Training Administration

[TA-W-64,757]

Ferro Corporation, Inorganic Specialties Division, Including On-Site Leased Workers From Spherion, Toccoa, Georgia; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 15, 2009, applicable to workers of Ferro Corporation, Inorganic Specialties Division, Toccoa, Georgia. The notice was published in the Federal Register on February 2, 2009 (74 FR 5871).

At the request of the State agency, the Department reviewed the certification for workers of the subject firm. The workers produce inorganic pigments.

New information provided by the company shows that workers leased from Spherion were employed on-site at Ferro Corporation, Inorganic Specialties Division, Toccoa, Georgia.

The intent of the Department's certification is to include all workers at the subject firm who were adversely affected by the shift in production to Mexico.

The Department has determined that these workers were sufficiently under the control of Ferro Corporation, Inorganic Specialties Division, to be considered leased workers.

Accordingly, the Department is amending this certification to include workers leased from Spherion working on-site at Ferro Corporation, Inorganic Specialties Division, Toccoa, Georgia.

The amended notice applicable to TA-W-64,757 is hereby issued as follows:

All workers of Ferro Corporation, Inorganic Specialties Division, Toccoa, Georgia, including on-site leased workers from Spherion, who became totally or partially separated from employment on or after December 18, 2007 through January 15, 2011, are eligible to apply for adjustment assistance under Section 223 of the Trade Act of 1974, and are also eligible to apply for alternative trade adjustment assistance under Section 246 of the Trade Act of 1974.

Signed in Washington, DC, this 7th day of April 2009.
Linda G. Poole,
Certifying Officer, Division of Trade Adjustment Assistance.

[FR Doc. E9-8698 Filed 4-15-09; 8:45 am]

BILLING CODE 4510-FN-P